DEPARTMENT OF TRANSPORTATION

Federal Highway Administration

Environmental Impact Statement: Chittenden County, Vermont

AGENCY: Federal Highway Administration (FHWA), DOT.

ACTION: Notice to rescind the 2010 Record of Decision.

SUMMARY: The FHWA is issuing this notice to advise the public that the 2010 Record of Decision issued for the proposed Southern Connector/Champlain Parkway project is being rescinded.

FOR FURTHER INFORMATION CONTACT: Kenneth R. Sikora, Jr., Environmental Program Manager, Federal Highway Administration, 87 State Street, Room 216, Montpelier, Vermont 05602. Telephone: (802) 828-4573.

SUPPLEMENTARY INFORMATION: The FHWA, in cooperation with the Vermont Agency of Transportation (VTrans), is rescinding the Record of Decision (ROD) for the Southern Connector/Champlain Parkway project issued on January 13, 2010.

The Notice of Intent to prepare the Supplemental Environmental Impact Statement (SEIS) was published in the Federal Register on December 31, 2003. The ROD was issued on January 13, 2010. The FHWA, in conjunction with the Vermont Agency of Transportation (VTrans), has determined that the ROD shall be rescinded for the following reason: Although the 2005 Draft SEIS and the 2009 Final SEIS each considered disproportionately high and adverse impacts on minority and low-income populations in accordance with Executive Order 12898, public outreach for that analysis was limited to the general public involvement associated with the NEPA process. Since the 2010 ROD, FHWA has become aware of new information about project impacts that may bear on the project decision.

In order to the assess the relevance of this new information, FHWA and VTrans have decided to perform targeted public outreach to any minority and low-income populations in the project study area in order to determine whether the conclusions reached in the 2009 Final SEIS and 2010 ROD remain valid. FHWA and VTrans have also determined that the environmental justice analysis and conclusions in the NEPA review should be reassessed using the latest (2010) census data, and based on FHWA's December 16, 2011 Guidance on Environmental Justice and NEPA.

The reassessment of census data and public outreach will be performed as part of a written evaluation of the 2009 Final SEIS. The outcome of the written evaluation will assess all changes to the project as well as its setting in determining project impacts. The identified impacts will be compared to those disclosed in the 2009 FSEIS. FHWA and VTrans will assess whether or not all of the project's environmental impacts were adequately considered, and if any of the impacts may rise to the level of significance. Based on the identification of any new impacts, and to what extent they rise to the level of significance, the written evaluation will recommend whether or not the preparation of a new Supplemental EIS would be appropriate to issue a new or an amended ROD for the project to move forward.

FHWA and VTrans continue to recognize a strong need for this project. The written evaluation will provide a basis for determining the way forward to implement this project. Any future FHWA action within this project study area will comply with environmental review requirements of the National Environmental Policy Act (NEPA) (42 U.S.C. 4321), FHWA's environmental regulations (23 CFR 771) and related authorities, as appropriate. Comments and questions concerning this action should be directed to FHWA at the address provided above.

(Catalog of Federal Domestic Assistance Program Number 20.205, Highway Planning and Construction. The regulations implementing Executive Order 12372 regarding intergovernmental consultation on Federal programs and activities apply to this program.)

Issued on: October 7, 2019.
Matthew R. Hake,
Division Administrator, Montpelier, Vermont.

[FR Doc. 2019-22306 Filed 10-10-19; 8:45 am]

BILLING CODE 4910-22-P